FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 016835F.

Name: DCM Logistics, Inc.

Address: 3710 Atlanta Industrial Parkway, NW., Atlanta, GA 30331.

Date Revoked: October 15, 2006.

Reason: Failed to maintain a valid bond.

License Number: 017926F.

Name: GQ Logistics, Inc.

Address: 11222 La Cienega Blvd., Ste. 510, Inglewood, CA 90304.

Date Revoked: October 20, 2006.

Reason: Failed to maintain a valid bond.

License Number: 019790N.

Name: K.C. Consulting, Inc.

Address: 36565 Nathan Hale Drive, Lake Villa, IL 60046.

Date Revoked: October 20, 2006.

Reason: Failed to maintain a valid bond.

License Number: 001229F.

Name: M&H Brokerage, Inc.

Address: 3399 NW. 72nd Avenue, Suite 218, Miami, FL 33152.

Date Revoked: October 15, 2006.

Reason: Failed to maintain a valid bond.

License Number : 018977F.

Name: Alas Cargo LLC.

Address: 548 E. Sepulveda Blvd., Suite D, Carson, CA 90745.

Date Revoked: October 20, 2006.

Reason: Failed to maintain a valid bond.

License Number: 015708N.

Name: Blue Moon Express Limited.

Address: Rm. 1901, 19/F, C C Wu Bldg., 302-308, Hennessy Road, Wanchai, Hong Kong.

Date Revoked: October 18, 2006.

Reason: Failed to maintain a valid bond.

License Number: 015457N.

Name: Direct Forwarding Co., Inc.

Address: 16905 Keegan Avenue, Carson, CA 90746.

Date Revoked: October 8, 2006.

Reason: Failed to maintain a valid bond.

License Number: 003961F.

Name: Ford Freight Forwarders, Inc.

Address: 8081 NW. 67th Street, Miami, FL 33166.

Date Revoked: October 15, 2006.

Reason: Failed to maintain a valid bond.

License Number: 014455N.

Name: New World Sea & Air Co., Inc.

Address: 615 East Alondra Blvd., Compton, CA 90220.

Date Revoked: October 8, 2006.

Reason: Failed to maintain a valid bond.

License Number: 016562F.

Name: U.S. Brokers (BOS) Inc.

Address: 840 Summer Street, 2nd Floor, Boston, MA 02127.

Date Revoked: October 19, 2006.

Reason: Failed to maintain a valid bond.

Sandra L. Kusumoto,
Director, Bureau of Certification and Licensing.

[FR Doc. E6-18385 Filed 10-31-06; 8:45 am]

BILLING CODE 6730-01-P